DEPARTMENT OF LABOR

Employment and Training Administration

[TA-W-59,326]

Dura Art Stone, Inc., Fontana, CA; Notice of Revised Determination of Alternative Trade Adjustment Assistance on Reconsideration

By application dated July 18, 2006, a representative of the United Electrical, Radio, and Machine Workers of America (UE), Local 1031, requested administrative reconsideration regarding Alternative Trade Adjustment Assistance. The certification for Trade Adjustment Assistance was signed on May 23, 2006. The Department's Notice of determination was published in the Federal Register on June 22, 2006 (71 FR 35952).

The initial investigation determined that the subject worker group possesses skills that are easily transferable.

The subject firm provided new information to show that the workers possess skills that are not easily transferable.

At least five percent of the workforce at the subject firm is at least fifty years of age. Competitive conditions within the industry are adverse.

Conclusion

After careful review of the additional facts obtained on reconsideration, I conclude that the requirements of Section 246 of the Trade Act of 1974, as amended, have been met for workers at the subject firm.

In accordance with the provisions of the Act, I make the following certification:

“All workers of Dura Art Stone, Inc., Fontana, California, who became totally or partially separated from employment on or after May 3, 2005 through May 23, 2008, are eligible to apply for adjustment assistance under Section 223 of the Trade Act of 1974, and are also eligible to apply for alternative trade adjustment assistance under Section 246 of the Trade Act of 1974.”

Signed in Washington, DC, this 9th day of August 2006.
Elliott S. Kushner,
Certifying Officer, Division of Trade Adjustment Assistance.

[FR Doc. E6-13517 Filed 8-15-06; 8:45 am]

BILLING CODE 4510-30-P